FEDERAL DEPOSIT INSURANCE CORPORATION

Notice of Agency Meeting

Pursuant to the provisions of the “Government in the Sunshine Act” (5 U.S.C. 552b), notice is hereby given that the Federal Deposit Insurance Corporation's Board of Directors will meet in open session at 10:15 a.m. on Thursday, October 6, 2005, to consider the following matters:

Summary Agenda

No substantive discussion of the following items is anticipated. These matters will be resolved with a single vote unless a member of the Board of Directors requests that an item be moved to the discussion agenda.

Disposition of minutes of previous Board of Directors' meetings.

Summary reports, status reports, and reports of actions taken pursuant to authority delegated by the Board of Directors.

Memorandum and resolution re: Proposed Statement of Policy Regarding the National Historic Preservation Act of 1966.

Memorandum and resolution re: Final Rule on Deposit Insurance Coverage of Accounts of Qualified Tuition Programs Under Section 529 of the Tax Code.

Memorandum and resolution re: Interpretive Rule Amending Part 333 to Incorporate New Accounts.

Memorandum and resolution re: Notice of Proposed Rulemaking on Standards of Ethical Conduct for FDIC Employees Regarding Extensions of Credit, Securities Ownership, and Definitions.

Memorandum and resolution re: Notice of Proposed Rulemaking: Part 307 Notification of Changes of Insured Status.

Discussion Agenda

Memorandum and resolution re: Advance Notice of Proposed Rulemaking Regarding Risk-Based Capital Guidelines; Capital Maintenance: Domestic Capital Modifications.

Memorandum and resolution re: Notice of Proposed Rulemaking on Petition to Preempt Certain State Laws.

The meeting will be held in the Board Room on the sixth floor of the FDIC Building located at 550 17th Street, NW., Washington, DC.

The FDIC will provide attendees with auxiliary aids (e.g., sign language interpretation) required for this meeting. Those attendees needing such assistance should call (202) 416-2089 (Voice); or (202) 416-2007 (TTY), to make necessary arrangements.

Requests for further information concerning the meeting may be directed to Mr. Robert E. Feldman, Executive Secretary of the Corporation, at (202) 898-7043.

Dated: September 29, 2005.
Federal Deposit Insurance Corporation.
Robert E. Feldman,
Executive Secretary.

[FR Doc. E5-5438 Filed 10-3-05; 8:45 am]

BILLING CODE 6714-01-P